ENVIRONMENTAL PROTECTION AGENCY

[FRL-8537-7]

Agreement for Recovery of Response Costs and Covenant not to Sue Under the Comprehensive Environmental Response, Compensation, and Liability Act Regarding the Delilah Road Landfill Superfund Site, Egg Harbor Township, Atlantic County, NJ

AGENCY: Environmental Protection Agency.

ACTION: Notice of proposed administrative settlement and request for public comment.

SUMMARY: In accordance with Section 122(i) of the Comprehensive Environmental Response, Compensation, and Liability Act of 1980, as amended (CERCLA), 42 U.S.C. 9601 et seq., the U.S. Environmental Protection Agency (EPA) announces a proposed administrative settlement to resolve claims under CERCLA. This settlement is intended to resolve the liability of four responsible parties for certain response costs incurred and to be incurred by EPA at the Delilah Road Landfill Superfund Site located in Egg Harbor Township, Atlantic County, New Jersey (Site). The proposed administrative settlement is contained in a Settlement Agreement for recovery of response costs (Agreement) between Atlantic City Electric Company, Lenox, Incorporated, Wyeth Holdings Corporation, and Wyeth (Settling Parties) and EPA. By this Notice, EPA is informing the public of the proposed settlement and of the opportunity to comment.

The Site, consisting of approximately 45 acres, was originally used for sand and gravel excavation, but was later converted to a solid waste disposal area. Landfill operations ceased in 1980. The Site was placed on the National Priorities List (NPL) on October 4, 1984, and in 1986, the New Jersey Department of Environmental Protection (NJDEP) began a remedial investigation and feasibility study (RI/FS) to investigate conditions at the Site and evaluate remedial alternatives. On September 28, 1990, NJDEP issued a Record of Decision (ROD) for the Site which included placement of an impermeable layer cap on the landfill and installation of a gas collection and treatment system. Certain private parties, including some of the Settling Parties or their predecessors, entered into an Administrative Consent Order with NJDEP, as the lead agency for the Site, effective on October 12, 1994, to implement the remedy selected in the ROD. NJDEP issued an Explanation of Significant Differences (ESD) effective September 30, 1998, based on the results of additional groundwater sampling, through which the remedy was modified to provide for a soil cap, rather than the synthetic membrane cap originally selected. Construction of the remedy began in late 2001, and was substantially completed by the summer of 2002. As the support agency for the Site, EPA's costs consist primarily of oversight costs.

Section 122(h) of CERCLA authorizes EPA to consider, compromise and settle certain claims. Under the terms of the proposed Agreement, the Settling Parties will pay $81,410.95 in reimbursement of past and future Site costs incurred by EPA. In exchange, EPA will grant a covenant not to sue or take administrative action against the Settling Parties for reimbursement of past or future EPA Site response costs pursuant to Section 107(a) of CERCLA, subject to reopeners for unknown conditions or new information.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th Floor, New York, New York 10007-1866. Telephone: (212) 637-3111.

DATES: Comments must be provided by April 4, 2008.

ADDRESSES: Comments should be sent to the U.S. Environmental Protection Agency, Office of Regional Counsel, 290 Broadway—17th Floor, New York, NY 10007-1866 and should refer to: Delilah Road Landfill Superfund Site, U.S. EPA Docket No. CERCLA-02-2008-2008.

SUPPLEMENTARY INFORMATION: A copy of the proposed administrative Agreement may be obtained in person or by mail from Diego Garcia, U.S. Environmental Protection Agency, 290 Broadway—19th Floor, New York, NY 10007-1866. Telephone: (212) 637-4947.

FOR FURTHER INFORMATION CONTACT: U.S. Environmental Protection Agency, Office of Regional Counsel, 290 Broadway—17th Floor, New York, New York 10007-1866. Telephone: (212) 637-3139.

Dated: January 24, 2008.
George Pavlou,
Director, Emergency and Remedial Response Division, Region 2.

[FR Doc. E8-4255 Filed 3-4-08; 8:45 am]

BILLING CODE 6560-50-P